NATIONAL AERONAUTICS AND SPACE ADMINISTRATION

[Notice 02-104]

NASA Advisory Council, Aerospace Technology Advisory Committee; Meeting

AGENCY: National Aeronautics and Space Administration.

ACTION: Notice of meeting.

SUMMARY: In accordance with the Federal Advisory Committee Act, Public Law 92-463, as amended, the National Aeronautics and Space Administration announces a forthcoming meeting of the NASA Advisory Council, Aerospace Technology Advisory Committee.

DATES: Tuesday, October 1, 2002, 1 p.m. to 5 p.m.; and Wednesday, October 2, 2002, 8:30 a.m. to 5 p.m.

ADDRESSES: Holiday Inn Rosslyn Westpark Hotel, 1900 North Fort Myer Drive, Arlington, Virginia 22209.

FOR FURTHER INFORMATION CONTACT: Ms. Mary-Ellen McGrath, Office of Aerospace Technology, National Aeronautics and Space Administration, Washington, DC 20546 (202/358-4729).

SUPPLEMENTARY INFORMATION: The meeting will be open to the public up to the seating capacity of the room. The agenda for the meeting is as follows:

Tuesday, October 1—1 a.m. to 5 p.m.

—Opening Comments for Joint Aerospace Technology Advisory Committee (ATAC) and Research, Engineering and Development Advisory Committee (REDAC)

—Briefing on The 21st Century Aviation Systems

—Discussion on issues and activities that impact both groups

Wednesday, October 2—9 a.m. to 5 p.m.

—Enterprise State of Affairs

—Review of Actions

—NASA Facilities Status and Plan

—Subcommittee Reports

It is imperative that the meeting be held on these dates to accommodate the scheduling priorities of the key participants. Visitors will be requested to sign a visitor's register.

June W. Edwards,
Advisory Committee Management Officer, National Aeronautics and Space Administration.

[FR Doc. 02-23293 Filed 9-12-02; 8:45 am]

BILLING CODE 7510-01-P